GOVERNMENT PUBLISHING OFFICE

Depository Library Council; Meeting

The Depository Library Council (DLC) will meet in conjunction with the Federal Depository Library Conference from Monday, October 18, 2021 through Wednesday, October 20, 2021, virtually. The sessions will take place from 12 p.m. to 5:30 p.m., Monday through Wednesday. The meetings will take place online, and anyone can register to attend at https://www.fdlp.gov/about/conferences/2021-fdl-conference. Closed captioning will also be provided. The purpose is to discuss the Federal Depository Library Program. All sessions are open to the public.

Hugh Nathanial Halpern,
Director, U.S. Government Publishing Office.

[FR Doc. 2021-21554 Filed 10-1-21; 8:45 am]

BILLING CODE 1520-01-P